DEPARTMENT OF ENERGY

Federal Energy Regulatory Commission

Combined Notice of Filings #1

August 21, 2008.

Take notice that the Commission received the following electric corporate filings:

Docket Numbers: EC08-118-000.

Applicants: North Western Corporation; Bicent (Montana) Power Company LLC.

Description: NorthWestern Corp's et al. application for authorization for disposition of an existing generation facility and related jurisdictional assets and request for expedited action.

Filed Date: 08/15/2008.

Accession Number: 20080820-0041.

Comment Date: 5 p.m. Eastern Time on Friday, September 5, 2008.

Take notice that the Commission received the following exempt wholesale generator filings:

Docket Numbers: EG08-86-000.

Applicants: Barton Chapel Wind, LLC.

Description: Notice of Self-Recertification of Exempt Wholesale Generator Status of Barton Chapel Wind, LLC.

Filed Date: 08/13/2008.

Accession Number: 20080813-5031.

Comment Date: 5 p.m. Eastern Time on Wednesday, September 3, 2008.

Take notice that the Commission received the following electric rate filings:

Docket Numbers: ER96-2734-006.

Applicants: Southern Indiana Gas & Electric Company.

Description: Southern Indiana Gas and Electric Co. submits revisions to its market based rate tariff providing for sales of capacity, energy and/or ancillary services.

Filed Date: 08/13/2008.

Accession Number: 20080814-0060.

Comment Date: 5 p.m. Eastern Time on Wednesday, September 3, 2008.

Docket Numbers: ER99-1005-009; ER03-1079-009.

Applicants: Kansas City Power & Light Company; Aquila Inc.

Description: Kansas City Power & Light Company et al. notifies FERC of a consummation of transaction constituting a non-material change in status in the market-based rate authority.

Filed Date: 08/13/2008.

Accession Number: 20080814-0288.

Comment Date: 5 p.m. Eastern Time on Wednesday, September 3, 2008.

Docket Numbers: ER99-2287-004; ER03-802-007; ER08-401-001.

Applicants: Black Hills Power, Inc.; Black Hills Wyoming, Inc.; Cheyenne Light Fuel & Power Company.

Description: Black Hills Utilities submits revisions to the market-based rate wholesale power sale tariffs of Black Hills Power et al. in compliance with FERC's Order 697.

Filed Date: 08/13/2008.

Accession Number: 20080814-0286.

Comment Date: 5 p.m. Eastern Time on Wednesday, September 3, 2008.

Docket Numbers: ER00-3251-017; ER99-754-017; ER98-1734-016; ER01-1919-013; ER01-1147-007; ER01-513-022; ER99-2404-012.

Applicants: Exelon Generation Company, LLC; AmerGen Energy Company, LLC; Commonwealth Edison Company; Exelon Energy Company; PECO Energy Company; Exelon West Medway, LLC, Exelon New Boston, LLC; Exelon Framingham; Exelon New England Power Marketing, L.P.

Description: Exelon MBR Companies submits a revised set of screens for the PJM market and PJM-East submarket and supporting information responsive to the Staff Data Request re the 1/14/08 filing of their market-based rate authorization etc.

Filed Date: 08/15/2008.

Accession Number: 20080819-0127.

Comment Date: 5 p.m. Eastern Time on Friday, September 5, 2008.

Docket Numbers: ER02-553-010.

Applicants: Rolling Hills Generating L.L.C.

Description: Updated Market Power Analysis re Rolling Hills Generating, LLC.

Filed Date: 08/18/2008.

Accession Number: 20080818-5139.

Comment Date: 5 p.m. Eastern Time on Monday, September 8, 2008.

Docket Numbers: ER02-506-011; ER98-2783-014; ER99-3822-014; ER07-841-004; ER01-140-010; ER07-842-004; ER00-1895-012; ER07-843-000; ER07-844-004; ER07-845-004; ER07-846-004; ER99-4160-015; ER01-141-010; ER07-847-004; ER00-3696-011; ER01-943-010; ER05-1266-008; ER08-451-003; ER01-3109-012; ER01-1044-011; ER99-2157-011; ER03-42-015.

Applicants: Bluegrass Generation Company, L.L.C.; Bridgeport Energy, LLC; CASCO BAY ENERGY COMPANY, LLC; Dynegy Arlington Valley, LLC; Dynegy Danskammer, L.L.C.; Dynegy Kendall Energy, LLC; Dynegy Midwest Generation, Inc.; Dynegy Mohave, LLC, Dynegy Morro Bay, LLC, Dynegy Moss Landing, LLC, Dynegy Oakland, LLC, Dynegy Power Marketing, Inc., Dynegy Roseton, L.L.C.; Dynegy South Bay, LLC, Griffith Energy LLC, Heard County Power, LLC, Ontelaunee Power Operating Company, LLC, Plum Point Energy Associates, LLC; Renaissance Power, L.L.C.; Riverside Generating Company, LLC; Rocky Road Power, LLC; Sithe/Independence Power Partners, L.P.

Description: The Dynegy MBR Sellers submit the revised market-based rate tariff sheets.

Filed Date: 08/15/2008.

Accession Number: 20080820-0043.

Comment Date: 5 p.m. Eastern Time on Friday, September 5, 2008.

Docket Numbers: ER03-1182-006; ER04-698-006; ER99-415-016.

Applicants: Tyr Energy, LLC; Tor Power, LLC; Commonwealth Chesapeake Company, LLC.

Description: Tyr Energy LLC et al. submits a clean and redlined version of revised tariff sheets to comply with Order 697-A.

Filed Date: 08/15/2008.

Accession Number: 20080818-0086.

Comment Date: 5 p.m. Eastern Time on Friday, September 5, 2008.

Docket Numbers: ER04-805-008.

Applicants: Wabash Valley Power Association, Inc.

Description: Wabash Valley Power Association, Inc. submits certain revised tariff sheet applicable to the sale of certain ancillary services in the Ancillary Service Market of the Midwest Independent System Operator, Inc.

Filed Date: 08/15/2008.

Accession Number: 20080819-0093.

Comment Date: 5 p.m. Eastern Time on Friday, September 5, 2008.

Docket Numbers: ER05-1410-008; EL05-148-008.

Applicants: PJM Interconnection, L.L.C.

Description: PJM Interconnection, LLC submits Substitute Third Revised Sheet 611 et al. to FERC Electric Tariff, Sixth Revised Volume 1 in compliance with the Commission's 7/18/08 Order.

Filed Date: 08/18/2008.

Accession Number: 20080819-0315.

Comment Date: 5 p.m. Eastern Time on Monday, September 8, 2008.

Docket Numbers: ER06-615-028.

Applicants: California Independent System Operator C.

Description: California Independent System Operator Corp submits proposed revisions to Section 11.24.2 that eliminate the five percent “free pass” provision originally proposed in compliance with FERC's 7/17/08 Order.

Filed Date: 08/18/2008.

Accession Number: 20080821-0103.

Comment Date: 5 p.m. Eastern Time on Monday, September 8, 2008.

Docket Numbers: ER07-1142-002.

Applicants: Arizona Public Service Company.

Description: Arizona Public Service Co. submits an amendment to the Offer of Settlement and Settlement Agreement submitted on 5/29/08 in compliance with the Commission's 7/25/08 Order.

Filed Date: 08/18/2008.

Accession Number: 20080819-0323.

Comment Date: 5 p.m. Eastern Time on Monday, September 8, 2008.

Docket Numbers: ER07-1291-005; OA07-54-006.

Applicants: PacifiCorp.

Description: PacifiCorp submits revised tariff sheet to its Seventh Revised 11 open Access Transmission Tariff to reflect the Commission's Order 890 rollover reforms.

Filed Date: 08/13/2008.

Accession Number: 20080814-0285.

Comment Date: 5 p.m. Eastern Time on Wednesday, September 3, 2008.

Docket Numbers: ER08-637-004.

Applicants: Midwest Independent Transmission System.

Description: MidAmerican Energy Company submits the Market Coordination Service portion of their Western Markets Proposal pursuant to the Commission's 6/13/08 order.

Filed Date: 08/15/2008.

Accession Number: 20080819-0324.

Comment Date: 5 p.m. Eastern Time on Friday, September 05, 2008

Docket Numbers: ER08-989-002.

Applicants: Westar Energy, Inc.

Description: Westar Energy, Inc. submits Alternate Pro Forma Sheet 30 to Westar's pro forma Formula Rate Agreement for Full Requirements Electric Service between Westar and the City of Blue Mound, Kansas etc.

Filed Date: 08/15/2008.

Accession Number: 20080819-0091.

Comment Date: 5 p.m. Eastern Time on Friday, September 5, 2008.

Docket Numbers: ER08-992-002.

Applicants: Westar Energy, Inc.

Description: Westar Energy, Inc. submits Alternate Pro Forma Sheet 30 to Westar's pro forma Formula Rate Agreement for Full Requirements Electric Service with the City of Bronson, Kansas etc.

Filed Date: 08/15/2008.

Accession Number: 20080819-0094.

Comment Date: 5 p.m. Eastern Time on Friday, September 5, 2008.

Docket Numbers: ER08-994-002.

Applicants: Westar Energy, Inc.

Description: Westar Energy, Inc. submits Alternate Pro Forma Sheet 30 to Westar's pro forma Formula Rate Agreement for Full Requirements Electric Service between Westar and the City of Mulberry, Kansas etc.

Filed Date: 08/15/2008.

Accession Number: 20080819-0090.

Comment Date: 5 p.m. Eastern Time on Friday, September 5, 2008.

Docket Numbers: ER08-966-002.

Applicants: Northeast Utilities Service Company.

Description: Northeast Utilities Service Co. submits a compliance filing pursuant to FERC's 7/17/08 Order.

Filed Date: 08/18/2008.

Accession Number: 20080821-0104.

Comment Date: 5 p.m. Eastern Time on Monday, September 8, 2008.

Docket Numbers: ER08-998-002.

Applicants: Westar Energy, Inc.

Description: Westar Energy, Inc. submits Alternate Pro Forma Sheet 30 to Westar's pro forma Formula Rate Agreement for Full Requirements Electric Service between Westar and the City of Robison, Kansas etc.

Filed Date: 08/15/2008.

Accession Number: 20080819-0092.

Comment Date: 5 p.m. Eastern Time on Friday, September 5, 2008.

Docket Numbers: ER08-1016-001.

Applicants: PJM Interconnection, L.L.C.

Description: PJM Interconnection, LLC submits revised sheets to Schedule 1 of the Amended and Restated Operating Agreement as well as the parallel provisions of the Appendix to Attachment K etc pursuant to FERC's 7/25/08 order.

Filed Date: 08/18/2008.

Accession Number: 20080819-0307.

Comment Date: 5 p.m. Eastern Time on Monday, September 8, 2008.

Docket Numbers: ER08-1029-001.

Applicants: Westar Energy, Inc.

Description: Westar Energy, Inc. submits the Alternate Pro Forma Sheet 30 to their pro forma Formula Rate Agreement for Full Requirements Electric Service with City of Elsmore, Kansas pursuant to the Commission's 7/25/08 order.

Filed Date: 08/18/2008.

Accession Number: 20080819-0314.

Comment Date: 5 p.m. Eastern Time on Monday, September 8, 2008.

Docket Numbers: ER08-1031-001.

Applicants: Westar Energy, Inc.

Description: Westar Energy, Inc. submits Alternate Pro Forma Sheet 30 to their pro forma Formula Rate Agreement for Full Requirements Electric Service with City of La Harpe, Kansas pursuant to the Commission's 7/25/08 order.

Filed Date: 08/18/2008.

Accession Number: 20080819-0313.

Comment Date: 5 p.m. Eastern Time on Monday, September 8, 2008.

Docket Numbers: ER08-1033-001.

Applicants: Westar Energy, Inc.

Description: Westar Energy, Inc. submits Alternate Pro Forma Sheet 30 to Westar's pro forma Formula Rate Agreement for Full Requirements Electric Service with the City of Vermillion, Kansas pursuant to the Commission's 7/25/08 order.

Filed Date: 08/18/2008.

Accession Number: 20080819-0312.

Comment Date: 5 p.m. Eastern Time on Monday, September 8, 2008.

Docket Numbers: ER08-1035-001.

Applicants: Westar Energy, Inc.

Description: Westar Energy, Inc. submits Alternate Pro Forma Sheet 30 to Westar's pro forma Formula Rate Agreement for Full Requirements Electric Service with the City of Savonburg, Kansas pursuant to the Commission's 7/25/08 order.

Filed Date: 08/18/2008.

Accession Number: 20080819-0311.

Comment Date: 5 p.m. Eastern Time on Monday, September 8, 2008.

Docket Numbers: ER08-1037-001.

Applicants: Westar Energy, Inc.

Description: Westar Energy, Inc. submits Alternate Pro Forma Sheet 30 to Westar's pro forma Formula Rate Agreement for Full Requirements Electric Service between Westar and the City of Burlingame, Kansas etc.

Filed Date: 08/18/2008.

Accession Number: 20080819-0309.

Comment Date: 5 p.m. Eastern Time on Monday, September 8, 2008.

Docket Numbers: ER08-1047-001.

Applicants: Westar Energy, Inc.

Description: Westar Energy, Inc. submits Alternate Pro Forma Sheet 30 to Westar's pro forma Formula Rate Agreement for Full Requirements Electric Service with the City of Moran, Kansas pursuant to the Commission's 7/25/08 order.

Filed Date: 08/18/2008.

Accession Number: 20080819-0310.

Comment Date: 5 p.m. Eastern Time on Monday, September 8, 2008.

Docket Numbers: ER08-1062-001.

Applicants: Westar Energy, Inc.

Description: Westar Energy, Inc. submits their Alternate Pro Forma Sheet 29 to their pro forma Formula Rate Agreement for Full Requirements Electric Service with Kaw Valley Electric Coop et al. pursuant to FERC's 7/25/08 order.

Filed Date: 08/18/2008.

Accession Number: 20080819-0308.

Comment Date: 5 p.m. Eastern Time on Monday, September 8, 2008.

Docket Numbers: ER08-1240-002.

Applicants: MH Partners LP.

Description: MH Partners LP submits an application for market-based rate authority and also requests that the Commission grant its initial rate schedule to engage in wholesale sales of electric energy and capacity etc.

Filed Date: 08/18/2008.

Accession Number: 20080819-0316.

Comment Date: 5 p.m. Eastern Time on Monday, September 8, 2008.

Docket Numbers: ER08-1393-000.

Applicants: PJM Interconnection, LLC.

Description: PJM Interconnection, LLC submits revisions to the Amended and Restated Operating Agreement.

Filed Date: 08/13/2008.

Accession Number: 20080814-0065.

Comment Date: 5 p.m. Eastern Time on Wednesday, September 3, 2008.

Docket Numbers: ER08-1394-000.

Applicants: Midwest Independent Transmission System.

Description: Midwest Independent Transmission System Operator, Inc. submits a Transmission to Transmission Interconnection Agreement with Great River Energy et al. designated as Original Service Agreement 1973.

Filed Date: 08/13/2008.

Accession Number: 20080814-0064.

Comment Date: 5 p.m. Eastern Time on Wednesday, September 3, 2008.

Docket Numbers: ER08-1395-000.

Applicants: American Electric Power Service Corporation.

Description: Ohio Power Company et al. submits a fourteenth revised Interconnection and Local Delivery Service Agreement with Buckeye Power Inc.

Filed Date: 08/13/2008.

Accession Number: 20080814-0062.

Comment Date: 5 p.m. Eastern Time on Wednesday, September 3, 2008.

Docket Numbers: ER08-1396-000.

Applicants: Westar Energy, Inc.

Description: Westar Energy, Inc. submits their Petition for Approval of Settlement Agreement with the City of Wathena, Kansas.

Filed Date: 08/13/2008.

Accession Number: 20080814-0061.

Comment Date: 5 p.m. Eastern Time on Wednesday, September 3, 2008.

Docket Numbers: ER08-1409-000.

Applicants: California Independent System Operator C.

Description: California Independent System Operator Corporation submits an informational filing that is intended to provide notice re their revised transmission Access Charges effective 6/1/08.

Filed Date: 08/15/2008.

Accession Number: 20080818-0083.

Comment Date: 5 p.m. Eastern Time on Friday, September 5, 2008.

Docket Numbers: ER08-1410-000.

Applicants: PacifiCorp.

Description: PacifiCorp submits several FERC-jurisdictional agreements.

Filed Date: 08/15/2008.

Accession Number: 20080820-0007.

Comment Date: 5 p.m. Eastern Time on Friday, September 5, 2008.

Docket Numbers: ER08-1411-000.

Applicants: New York Independent System Operator, Inc.

Description: New York Independent System Operator, Inc. submits revisions to its Market Administration and Control Area Services Tariff to improve the NYISO's implementation of its existing margin restoration payment rules.

Filed Date: 08/15/2008.

Accession Number: 20080819-0318.

Comment Date: 5 p.m. Eastern Time on Friday, September 5, 2008.

Docket Numbers: ER08-1412-000.

Applicants: Rainy River Energy Corporation.

Description: Rainy River Energy Corporation submits the Notice of Termination of FERC'S market-based rate tariff, First Revised Rate Schedule 1, effective 8/16/08.

Filed Date: 08/15/2008.

Accession Number: 20080819-0319.

Comment Date: 5 p.m. Eastern Time on Friday, September 5, 2008.

Docket Numbers: ER08-1413-000.

Applicants: Central Illinois Public Service Company, Ameren Services Company, Illinois Power Company, Union Electric Company.

Description: Ameren Services Company on behalf of Central Illinois Public Service Co et al. submits certain revised pages to two Facility Use Agreements.

Filed Date: 08/15/2008.

Accession Number: 20080819-0320.

Comment Date: 5 p.m. Eastern Time on Friday, September 5, 2008.

Docket Numbers: ER08-1414-000.

Applicants: Arizona Public Service Company.

Description: Arizona Public Service Co. submits Amendment 1 to a 1991 Operation, Maintenance, and Replacement of Facilities Agreement with Western Area Power Authority.

Filed Date: 08/15/2008.

Accession Number: 20080819-0321.

Comment Date: 5 p.m. Eastern Time on Friday, September 5, 2008.

Docket Numbers: ER08-1415-000.

Applicants: Midwest Independent Transmission System.

Description: Midwest Independent Transmission System Operator, Inc. submits its Adjacent Balancing Authority Coordination Agreement with KCP&L Balancing Authority, which reflects emergency energy provisions etc.

Filed Date: 08/15/2008.

Accession Number: 20080819-0322.

Comment Date: 5 p.m. Eastern Time on Friday, September 5, 2008.

Docket Numbers: ER08-1417-000.

Applicants: Kentucky Utilities Company.

Description: Kentucky Utilities Co. submits 12 settlement agreements executed with municipalities.

Filed Date: 08/15/2008.

Accession Number: 20080820-0040.

Comment Date: 5 p.m. Eastern Time on Friday, September 5, 2008.

Docket Numbers: ER08-1418-000; ER96-1858-024.

Applicants: MID-AMERICAN POWER, LLC; DTE Stoneman, LLC

Description: DTE Stoneman, LLC et al. submits a notice of change in status and notice of succession.

Filed Date: 08/15/2008.

Accession Number: 20080820-0039.

Comment Date: 5 p.m. Eastern Time on Friday, September 5, 2008.

Docket Numbers: ER08-1419-000.

Applicants: Southwest Power Pool, Inc.

Description: Southwest Power Pool, Inc. submits amendments to its Open Access Transmission Tariff to establish (i) a process for including a balanced portfolio of economic upgrades into the SPP Transmission Expansion Plan etc.

Filed Date: 08/15/2008.

Accession Number: 20080820-0038.

Comment Date: 5 p.m. Eastern Time on Friday, September 5, 2008.

Docket Numbers: ER08-1420-000.

Applicants: Southern California Edison Company.

Description: Southern California Edison Company submits a Small Generator Interconnection Agreement and a Service Agreement for Wholesale Distribution Service with County Sanitation Districts of Los Angeles County.

Filed Date: 08/18/2008.

Accession Number: 20080819-0306.

Comment Date: 5 p.m. Eastern Time on Monday, September 8, 2008.

Docket Numbers: ER08-1421-000.

Applicants: American Electric Power Service Corporat.

Description: American Electric Power Service Corp. as agent for AEP Texas North Co submits revised tariff sheets to the 1/9/04 Interconnection Agreement with Texas-New Mexico Power Co.

Filed Date: 08/18/2008.

Accession Number: 20080819-0325.

Comment Date: 5 p.m. Eastern Time on Monday, September 8, 2008.

Docket Numbers: ER08-1422-000.

Applicants: New York Independent System Operator, Inc.

Description: New York Independent System Operator, Inc. submits a filing to revise the day-ahead market process to improve efficiency of resource commitment etc.

Filed Date: 08/18/2008.

Accession Number: 20080821-0105.

Comment Date: 5 p.m. Eastern Time on Monday, September 8, 2008.

Take notice that the Commission received the following open access transmission tariff filings:

Docket Numbers: OA07-48-002.

Applicants: Tucson Electric Power Company.

Description: Tucson Electric Power Co. submits Third Revised Sheet 20 et al. to FERC Electric Tariff, Fourth Revised Volume 2, to be effective 8/18/08.

Filed Date: 08/18/2008.

Accession Number: 20080821-0101.

Comment Date: 5 p.m. Eastern Time on Monday, September 8, 2008.

Docket Numbers: OA07-49-002.

Applicants: UNS Electric, Inc.

Description: UNS Electric, Inc. submits Second Revised Sheet 21 et al. to FERC Electric Tariff, First Revised Volume 1, to be effective 8/18/08.

Filed Date: 08/18/2008.

Accession Number: 20080821-0102.

Comment Date: 5 p.m. Eastern Time on Monday, September 8, 2008.

Docket Numbers: OA08-21-001.

Applicants: Maine Public Service Company.

Description: Maine Public Service Company's Compliance Filing With Revisions To Transmission Planning Process.

Filed Date: 08/13/2008.

Accession Number: 20080813-5035.

Comment Date: 5 p.m. Eastern Time on Wednesday, September 3, 2008.

Docket Numbers: OA08-4-001.

Applicants: Midwest ISO Transmission Owners.

Description: Midwest ISO Transmission Owners submits limited issue section 205 filing to redesign certain point-to-point transmission charges to eliminate costs associated with Capacity Benefit Margin set-aside.

Filed Date: 08/13/2008.

Accession Number: 20080814-0287.

Comment Date: 5 p.m. Eastern Time on Wednesday, September 3, 2008.

Docket Numbers: OA08-42-001.

Applicants: Midwest Independent Transmission System Operator, Inc.

Description: Midwest Independent Transmission System Operator, Inc. et al. submits compliance filing.

Filed Date: 08/13/2008.

Accession Number: 20080814-0284.

Comment Date: 5 p.m. Eastern Time on Wednesday, September 3, 2008.

Docket Numbers: OA08-53-001.

Applicants: Midwest Independent Transmission System Operator, Inc.

Description: Midwest Independent Transmission System Operator, Inc. submits proposed revisions to the Midwest ISO's Open Access Transmission and Energy Markets Tariff, to comply with Commission directives.

Filed Date: 08/13/2008.

Accession Number: 20080814-0283.

Comment Date: 5 p.m. Eastern Time on Wednesday, September 3, 2008.

Docket Numbers: OA08-71-001.

Applicants: Xcel Energy Services Inc.

Description: Order No. 890 OATT Compliance Filing.

Filed Date: 08/18/2008.

Accession Number: 20080818-5138.

Comment Date: 5 p.m. Eastern Time on Monday, September 8, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E8-19942 Filed 8-27-08; 8:45 am]

BILLING CODE 6717-01-P